ENVIRONMENTAL PROTECTION AGENCY

[FRL-8719-9]

Gulf of Mexico Program Citizens Advisory Committee Meeting

AGENCY: Environmental Protection Agency ( EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Tuesday, October 28, 2008 from 9 a.m. to 12 p.m.

ADDRESSES: The meeting will be held at the Hilton New Orleans Riverside, No. 2 Poydras Street, New Orleans, LA 70140.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Citizens Advisory Committee Overview, which includes the purpose, member responsibilities, and bylaws; GMP Program Update; CAC Participation in the Governors' Alliance; Succession Planning to vote on a new slate of officers and to select alternates; discussions of meeting frequency, date of next meeting and future meeting topics.

The meeting is open to the public.

Dated: September 17, 2008.
Gloria D. Car,
Designated Federal Officer.

[FR Doc. E8-22382 Filed 9-23-08; 8:45 am]

BILLING CODE 6560-50-P